CONSUMER PRODUCT SAFETY COMMISSION

Commission Agenda and Priorities; Notice of Hearing

AGENCY: U.S. Consumer Product Safety Commission.

ACTION: Notice of Hearing.

SUMMARY: On March 5, 2020, the U.S. Consumer Product Safety Commission (CPSC or Commission) published a notice announcing a public hearing concerning the Commission's agenda and priorities for fiscal years 2021 and 2022, which was postponed due to the extraordinary circumstances surrounding COVID-19. The CPSC has now rescheduled the public hearing for May 27, 2020, at 10:00 a.m. EDT via CPSC Webinar. All attendees should pre-register for the Webinar. To pre-register for the Webinar, please visit https://attendee.gotowebinar.com/register/3513228129651454990 and fill in the information. After registering you will receive a confirmation email containing information about joining the webinar. Detailed instructions for the hearing participants and other interested parties will be made available on the CPSC website on the public calendar: https://cpsc.gov/newsroom/public-calendar.

DATES: The hearing will begin at 10 a.m. EDT on May 27, 2020, and will conclude the same day.

FOR FURTHER INFORMATION CONTACT: Alberta E. Mills, Division of the Secretariat, U.S. Consumer Product Safety Commission, 4330 East West Highway, Bethesda, MD 20814; email: cpsc-os@cpsc.gov; telephone: (301) 504-7479; facsimile: (301) 504-0127.

SUPPLEMENTARY INFORMATION:

Section 4(j) of the Consumer Product Safety Act (CPSA) (15 U.S.C. 2053(j)) requires the Commission to establish an agenda for action under the laws the Commission administers, and to the extent feasible, select priorities for action at least 30 days before the beginning of each fiscal year. Section 4(j) of the CPSA provides further that before establishing its agenda and priorities, the Commission shall conduct a public hearing and provide an opportunity for the submission of comments.

On March 5, 2020, the CPSC published a notice in the Federal Register to announce that a priorities hearing would be conducted on April 15, 2020 (85 FR 12908) and requested written comments. On April 3, 2020, the CPSC postponed the public hearing date until further notice and extended the comment period for written comments until May 1, 2020. (85 FR 18925). By this notice the Commission announces that the public hearing will be held on May 27, 2020, at 10:00 a.m. EDT via CPSC Webinar. All attendees should pre-register for the Webinar. To pre-register for the Webinar, please visit https://attendee.gotowebinar.com/register/3513228129651454990 and fill in the information. After registering you will receive a confirmation email containing information about joining the webinar. Detailed instructions for the hearing participants and other interested parties will be made available on the CPSC website on the public calendar: https://cpsc.gov/newsroom/public-calendar. The FY 2021 Budget Request can be found at: www.cpsc.gov/about-cpsc/agency-reports/performance-and-budget.

Alberta E. Mills,
Secretary, U.S. Consumer Product Safety Commission.

[FR Doc. 2020-10589 Filed 5-15-20; 8:45 am]

BILLING CODE 6355-01-P